DEPARTMENT OF HEALTH AND HUMAN SERVICES

National Institutes of Health

National Institute of Neurological Disorders and Stroke; Amended Notice of Meeting

Notice is hereby given of a change in the meeting of the Neurological Sciences and Disorders A, June 22, 2006, 8 a.m. to June 23, 2006, 6 p.m. The Fairmont Washington, DC, 2401 M Street, NW., Washington, DC 20037, which was published in the Federal Register on May 3, 2006, 71, FR: 06-4149.

This meeting was scheduled for June 22-23, 2006 and has been changed to a one day meeting on June 22, 2006; 8 a.m. to 6 p.m. The meeting is closed to the public.

Dated: May 25, 2006.
Anna Snouffer,
Acting Director, Office of Federal Advisory Committee Policy.

[FR Doc. 06-5061 Filed 6-1-06; 8:45 am]

BILLING CODE 4140-01-M